DEPARTMENT OF LABOR

Employment and Training Administration

[TA-W-82,113]

SGL Carbon, LLC, Including Leased On-Site Worker of Reflex Staffing Services and Manpower, St. Marys, Pennsylvania; Notice of Negative Determination on Reconsideration

The initial investigation began on October 31, 2012 when a representative of the International Union of Electronic, Electrical, Salaried, Machine and Furniture Workers/Communications Workers of America (IUE/CWA) Local 502, filed a petition for Trade Adjustment Assistance (TAA) on behalf of workers and former workers of SGL Carbon, LLC, St. Marys, Pennsylvania (subject firm). The workers are engaged in activities related to the production of graphite component parts. The worker group includes on-site leased workers from Reflex Staffing Services and Manpower.

The negative determination was based on the findings that there had not been a decline in sales or production of graphite component parts at the subject firm during the relevant time period. The Department's notice of negative determination was issued on December 14, 2012 and published in the Federal Register on January 4, 2013 (78 FR 771).

By application dated January 9, 2013, the IUE/CWA requested administrative reconsideration of the Department's negative determination.

The application stated that the subject firm produces graphite components for solar panels and that many U.S. companies have difficulty competing in the solar business due to foreign competition. The application further states that workers of one of the subject firm's competitors (Mersen USA, Greenville, Michigan) are eligible to apply for TAA under petition TA-W-81,550.

On February 25, 2013, the Department issued a Notice of Affirmative Determination Regarding Application for Reconsideration, which was published in the Federal Register on March 8, 2013 (78 FR 15048).

Increased imports means imports of like or directly competitive articles have increased during the period under investigation (the twelve month period prior to the date of the petition) as compared to the representative base period, which is the one year consisting of the four quarters immediately preceding the date which is twelve months prior to the petition date.

In the case at hand, the petition date is October 19, 2012. As such, the period under investigation is October 2011 through September 2012 and the representative base period is October 2010 through September 2011.

In the course of the reconsideration investigation, the Department confirmed previously collected information and collected additional information from the subject firm to address the petitioner's allegations.

With respect to Section 222(a)(2)(A)(i) of the Act, the reconsideration investigation confirmed that the subject firm did not experience a decline in the sales or production of graphite parts during the period under investigation. As such, it is irrelevant whether imports of articles like or directly competitive with the graphic parts produced by the subject firm, or imports of finished articles incorporating component parts not produced in the United States, increased.

With respect to Section 222(a)(2)(B) of the Act, the reconsideration investigation confirmed that the subject firm did not shift the production of graphite parts, or like or directly competitive articles, to a foreign country and did not acquire the production of graphite parts, or like or directly competitive articles, from a foreign country.

Workers of Mersen USA, Greenville, Michigan (TA-W-81,550) were certified eligible to apply of adjustment assistance on a secondary basis (for being a supplier to a firm that employed workers who received a certification of eligibility under Section 222(a) of the Act).

In the case at hand, none of the major customers of the subject firm employ worker groups who are currently eligible to apply for TAA under Section 222(a) of the Act. As such, the worker group at the subject firm is not similarly-situated as the workers covered by TA-W-81,550.

Conclusion

After careful review of the Trade Act of 1974, as amended, applicable regulation, and information obtained during the initial and reconsideration investigations, I determine that workers and former workers of SGL Carbon, LLC, including on-site leased workers from Reflex Staffing Services and Manpower, St. Marys, Pennsylvania, are ineligible to apply for adjustment assistance.

Signed in Washington, DC, on this 29th day of April, 2013
Del Min Amy Chen,
Certifying Officer, Office of Trade Adjustment Assistance.

[FR Doc. 2013-11480 Filed 5-14-13; 8:45 am]

BILLING CODE 4510-FN-P